DEPARTMENT OF EDUCATION

Office of Special Education and Rehabilitative Services; Special Education—Research and Innovation to Improve Services and Results for Children with Disabilities Program.

AGENCY: Department of Education.

ACTION: Notice inviting applications for new awards for fiscal year (FY) 2001.

SUMMARY: This notice provides closing dates and other information regarding the transmittal of applications for two FY 2001 competitions under one program authorized by the Individuals with Disabilities Education Act (IDEA), as amended: Special Education—Research and Innovation to Improve Services and Results for Children with Disabilities.

National Education Goals

The eight National Education Goals focus the Nation's education reform efforts and provide a framework for improving teaching and learning.

This priority addresses the National Education Goals by helping to improve results for children with disabilities.

Waiver of Rulemaking

It is generally our practice to offer interested parties the opportunity to comment on proposed priorities. However, section 661(e)(2) of IDEA makes the Administrative Procedure Act (5 U.S.C. 553) inapplicable to the priorities in this notice.

General Requirements

(a) The projects funded under this notice must make positive efforts to employ and advance in employment qualified individuals with disabilities in project activities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) In a single application, an applicant must address only one absolute priority in this notice.

(e) Part III of each application submitted under a priority in this notice, the application narrative, is where an applicant addresses the selection criteria that are used by reviewers in evaluating the application. You must limit Part III to the equivalent of no more than the number of pages listed in the table at the end of this notice for each applicable priority, using the following standards:

• A “page” is 8.5″ x 11″ (on one side only) with one-inch margins (top, bottom, and sides).

• Double-space (no more than three lines per vertical inch) all text in the application narrative, including titles, headings, footnotes, quotations, and captions, as well as all text in charts, tables, figures, and graphs.

• If using a proportional computer font, use no smaller than a 12-point font, and an average character density no greater than 18 characters per inch. If using a nonproportional font or a typewriter, do not use more than 12 characters per inch.

The page limit does not apply to Part I, the cover sheet; Part II, the budget section, including the narrative budget justification; Part IV, the assurances and certifications; or the one-page abstract, the resumes, the bibliography or references, or the letters of support. However, you must include all of the application narrative in Part III.

We will reject without consideration or evaluation any application if—

• You apply these standards and exceed the page limit; or

• You apply other standards and exceed the equivalent of the page limit.

Research and Innovation to Improve Services and Results for Children With Disabilities [CFDA 84.324]

Purpose of Program: To produce, and advance the use of, knowledge to: (a) improve services provided under IDEA, including the practices of professionals and others involved in providing those services to children with disabilities; and (b) improve educational and early intervention results for infants, toddlers, and children with disabilities.

Eligible Applicants: For absolute priority 1, eligible applicants are: Institutions of higher education (IHEs), and private nonprofit organizations. For absolute priority 2, eligible applicants are: State and local educational agencies; institutions of higher education; other public agencies; private nonprofit organizations; outlying areas; freely associated States; and Indian tribes or tribal organizations.

Applicable Regulations: (a) The Education Department General Administrative Regulations (EDGAR) in 34 CFR parts 74, 75, 77, 80, 81, 82, 85, 86, 97, 98, and 99; (b) The selection criteria for the priorities under this program are drawn from the EDGAR general selection criteria menu. The specific selection criteria for each priority are included in the funding application packet for the applicable competition.

Note: The regulations in 34 CFR part 86 apply to institutions of higher education only.

Priority

Under 34 CFR 75.105(c)(3), we consider only applications that meet one of the following priorities: Absolute Priority 1—Center on Learning Disabilities (CFDA 84.324U)

Background

OSEP has realized for some time that there is concern over the current identification and assessment procedures for children with learning disabilities. In the preamble to the final regulations for Part B of IDEA, OSEP stated; “While there is merit to many of the proposed changes to definitions and terms, modifications to the substance of existing definitions should be subject to further review and discussion before changes are proposed. For example, as indicated in the preamble to the Notice of Proposed Rulemaking (NPRM) (10/22/97), the Department plans to carefully review research findings, expert opinion, and practical knowledge over the next several years to determine whether changes should be proposed to the procedures for evaluating children suspected of having a specific learning disability” (Final Regulations for Assistance to States for the Education of Children with Disabilities (64 FR 12418—March 12, 1999)).

Early in 2000, OSEP began to discuss developing a process to open a discussion on the identification of children with learning disabilities. The disability category “learning disabilities” is heterogeneous and multifaceted and we needed to develop a process for discussing learning disabilities that reflected this diversity. Two important decisions were made early on in our discussions on how the process should be structured. First, our primary goal was to synthesize and organize the most current and reliable research that we have on key issues in learning disabilities and second, we wanted to make sure that this process fully involved a broad variety of perspectives from other research agencies, national organizations, and stakeholders.

In May of 2000, OSEP brought together a diverse workgroup of 21 stakeholders in the area of learning disabilities representing parents, State and local level practitioners, representatives from policy organizations, and researchers. This workgroup has worked with OSEP since the initial meeting to: (1) Commission a set of papers on critical issues and organize formal responses to each of the papers; (2) hold an issues conference to present and facilitate discussion of the issues; (3) after the conference hold a round table discussion of the issues with key organizations and stakeholders: (4) disseminate the conference proceedings and results of the process; and (5) facilitate another round table with key stakeholders and organizations following the conference and prior to publication of proceedings.

Nine topics were identified for research review papers: Early identification, Classification Approach, Historical Perspective, Decision-Making, Discrepancy, Alternative Responses to Intervention, Processing Deficit, Clinical Judgement, and Is LD Real?. These papers will provide the substantive framework for the LD Issues conference in August of 2001. The workgroup will provide a report on the results of the initiative to OSEP following the conference.

Absolute Priority

The purpose of this priority is to fund a center to conduct follow up research, provide training, disseminate synthesized research validated information, and provide national technical assistance on issues in the area of identification and assessment of children with learning disabilities.

A project funded under this priority must:

(a) Review and identify gaps of current knowledge in learning disabilities looking across the areas addressed in the nine white papers mentioned in the Background Statement. Additional research will also be conducted exploring alternative approaches to identification of children with learning disabilities. In the initial meeting with OSEP, within the first month of award, OSEP will clarify with the project a priority list of these issues and the level of effort for each issue;

(b) In consultation with OSEP and the technical workgroup, design and conduct a strategic program of research to address identified gaps and additional research needs based on the LD initiative. The plan must be submitted within twelve (12) weeks of the award;

(c) Conduct a review of current State practices in identification and assessment of children with learning disabilities and analyze the variance in these State policies and practices;

(d) Conduct an analysis of the variation in identification and assessment of children with learning disabilities at the State and local level. Determine factors contributing to this variance and examine these factors across the 3 through 21 age range;

(e) Design, implement, and evaluate a dissemination and technical assistance approach that links research to practice and promotes the use of current knowledge and ongoing research findings. This approach must establish linkages with the Department of Education technical assistance providers to communicate research findings and distribute products; and prepare the research findings and products from the project in formats that are useful for specific audiences, including general education researchers, local, State, and national policymakers, as well as education practitioners;

(f) Fund as research assistants at least three graduate students per year who have concentrations in either policy or disability issues;

(g) Propose members for a project technical workgroup. (Do not obtain letters of agreement prior to award). The final selection of members will be determined in consultation with OSEP at the initial meeting. The Center will work with the technical workgroup throughout the length of the project to provide expertise throughout the project and on all project activities. The technical workgroup will meet within eight (8) weeks of award for an initial planning meeting. This workgroup will also meet at least once a year in Washington, DC each year of the project;

(h) Schedule three trips to Washington, DC the first year and two trips to Washington, DC each subsequent year: (1) one trip to meet with the Office of Special Education Programs (OSEP) project officer during this second month of the project award to clarify priority issues, review the program of research and technical assistance and dissemination approaches; (2) one trip annually (as specified in the “General Requirements” section of this notice); and (3) another annual meeting to meet and collaborate with the OSEP project officer.

Applicants for this priority are encouraged to attend the OSEP Learning Disabilities Summit August 27-28, 2001. For additional information please contact the competition manager.

In deciding whether to continue this project for the fourth and fifth years, we will consider the requirements of 34 CFR 75.253(a), and in addition—

(a) The recommendation of a review team consisting of experts selected by the Secretary, which review will be conducted during the last half of the project's second year in Washington, DC. Projects must budget for the travel associated with this review;

(b) The timeliness and effectiveness with which all requirements of the negotiated cooperative agreement have been or are being met by the project; and (c) The degree to which the project's design and methodology demonstrate the potential for advancing significant new knowledge.

Competitive Preference

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Under this priority, we will make one award for a cooperative agreement with a project period of 60 months subject to the requirements of 34 CFR 75.253(a) for continuation awards.

Maximum Award: The maximum award amount is $700,000 for any single budget period of 12 months. Consistent with EDGAR 34 CFR 75.104(b), we will reject any application that proposes a budget funding level for any year that exceeds the stated maximum award amount for that year.

Page Limits: The maximum page limits for this focus are 70 double-spaced pages.

Note: Applications must meet the required page limit standards that are described in the “General Requirements” section of this notice.

Absolute Priority 2—Center for Evidence-Based Practice: Young Children With Challenging Behavior (84.324Z)

Increasing numbers of infants, toddlers, and preschool children experience, or are at risk for, behavioral problems that affect their participation, performance, and development in natural environments and inclusive educational and community settings. Families seek assistance from diverse, and often multiple sources including child welfare, public health, and mental health services; pediatricians; preschools; and early care and intervention programs. There have been limited opportunities for these agencies and providers to collaborate across agencies and disciplines to identify effective practices for young children with, or at risk for, behavioral problems and their families. For purposes of this priority, young children are those under the age of six years.

Absolute Priority

The purpose of this priority is to support a Center to: (a) identify effective practices to meet the needs of young children with, or at risk for, behavioral problems and their families; (b) foster the exchange of information between parents, family members, and practitioners, as well as Federal, State, and community-based programs that provide services; and (c) conduct a program of research to improve services and interventions. In carrying out its activities, the Center must collaborate with education, early care and intervention, medical, and mental health providers, as well as others that identify and serve children with, or at risk for, behavioral problems and their families. The Center must use existing technical assistance agencies to assure that training and dissemination activities are carried out.

A project funded under this priority must:

(a) During the first six months of project year one, review and synthesize current knowledge base and gaps in knowledge related to the referral, diagnosis, intervention, transition, and outcomes of young children with, or at risk for, behavioral problems that affect their participation and performance in natural environments and inclusive educational and community settings. The synthesis must include:

(1) A review of the systems of services for young children and their families and ways in which the systems support or discourage access to effective interventions to address behavioral problems;

(2) A review of effective practices for the full range of challenging behavior in young children; and

(3) Data from educational, early care and intervention, mental health, medical, and other providers that identify and serve young children with, or at risk for, behavioral problems and their families.

(b) Use the knowledge synthesized to finalize the research agenda to evaluate the effects of the behavioral, environmental, and medical interventions provided to young children with, or at risk for, behavior problems and their families by the end of the sixth month of project year one. The research agenda will examine the relative and interactive effects of the interventions. The synthesis and research agenda must be submitted to the Department of Education for review at the end of the sixth month of project year one (with annual updates in subsequent years).

(c) In the first year of the project, establish working relationships with Federal, State, and local education, early care and intervention, mental health, medical, and other agencies, organizations, and providers to identify and foster the exchange of information between:

(1) Federal, State, and community-based programs, practitioners, and projects to assist them in their efforts; and

(2) Broader audiences of individuals and organizations including parents and family members of children with, or at risk for, behavioral problems.

(d) In the first year of the project, and in subsequent project years, convene an Advisory Group to support, guide, and define Center activities. The Advisory Group must meet at least once a year in Washington, DC and include members representing educational service agencies, early care and intervention agencies, mental health agencies, the medical community, and other agencies that identify and serve young children with, or at risk for, behavioral problems and their families. Applicants should provide evidence of agency support for their proposal, but refrain from securing commitments from specific individuals to serve on the Advisory Group until after the award has been made.

(e) Complete an externally reviewed document that provides authoritative guidance in the areas of referral, identification, intervention, transition, and outcomes for young children with, or at risk for, behavioral problems and their families. The document must provide guidance for recommended practices and standards of care that reflect the contributions of families, communities, educational agencies, early care and intervention agencies, mental health agencies, medical providers, and others providing services to young children with, or at risk for, behavioral problems and their families.

(f) Based on the synthesis and the findings from ongoing research and other Center activities: (1) Iidentify effective early intervention and prevention strategies across agencies and disciplines; and (2) identify the partners with whom the Department of Education might collaborate.

(g) Develop training materials that emphasize cross-agency and cross-discipline collaboration. Research findings and products must be in formats that are useful and accessible for specific audiences including trainers and other professional development personnel; parents and family members; local, State, and national policymakers; education, early care and intervention, medical, mental health, and other providers serving young children with, or at risk for, behavioral problems and their families.

(h) Design and implement a dissemination plan that links research to practice and promotes the exchange of information and use of current knowledge and research findings. This approach must develop linkages with OSEP and other Department of Education technical assistance providers to communicate research findings and distribute products.

(i) Collaborate with partners from Federal, State, and local agencies to assure that training and technical assistance reaches children and their families, as well as education, early care and intervention, mental health, medical providers, and other providers serving young children with, or at risk for, behavioral problems and their families.

(j) Budget three trips to Washington, DC the first year and two trips to Washington, DC each subsequent year: (1) One trip to meet with the Office of Special Education Programs (OSEP) project officer during the first month of the project award to review the design of the project; (2) one trip annually (as specified in the “General Requirements” section of this notice); and (3) another trip annually to meet and collaborate with the OSEP project officer.

In deciding whether to continue this project for the fourth and fifth years, we will consider the requirements of 34 CFR 75.253(a), and in addition—

(a) The recommendation of a review team consisting of experts selected by the Secretary, which review will be conducted during the last half of the project's second year in Washington, D.C. Projects must budget for the travel associated with this review;

(b) The timeliness and effectiveness with which all requirements of the negotiated cooperative agreement have been or are being met by the project; and

(c) The degree to which the project's design and methodology demonstrate the potential for advancing significant new knowledge.

Competitive Preference

Within this absolute priority, we will give the following competitive preference under section 606 of IDEA and 34 CFR 75.105(c)(2)(i), to applications that are otherwise eligible for funding under this priority: Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Under this priority, we will make one award for a cooperative agreement with a project period of 60 months subject to the requirements of 34 CFR 75.253(a) for continuation awards.

Maximum Award: The maximum award amount is $750,000 during the first year of the project and up to $1.5 million for each of the four subsequent years of the project. Consistent with EDGAR 34 CFR 75.104(b), we will reject any application that proposes a budget funding level for any year that exceeds the stated maximum award amount for that year.

Page Limits: The maximum page limit for this priority is 70 double-spaced pages.

Note: Applications must meet the required page limit standards that are described in the “General Requirements” section of this notice.

For Applications Contact: Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site (http://www.ed.gov/pubs/edpubs.html) or its E-mail address (edpubs@inet.ed.gov).

If you request an application from ED Pubs, be sure to identify these competitions as follows: CFDA 84.324U and CFDA 84.324Z.

FOR FURTHER INFORMATION CONTACT: Grants and Contracts Services Team, U.S. Department of Education, 400 Maryland Avenue, S.W., room 3317, Switzer Building, Washington, DC 20202-2550. Telephone: (202) 260-9182.

If you use a TDD you may call the Federal Information Relay Service (FIRS) at 1-800-877-8339.

Individuals with disabilities may obtain this document in an alternative format (e.g., Braille, large print, audiotape, or computer diskette) on request to the contact persons listed in the preceding paragraph.

Individuals with disabilities may obtain a copy of the application package in an alternative format by contacting the Department as listed above. However, the Department is not able to reproduce in an alternative format the standard forms included in the application package.

Individuals With Disabilities Education Act Application Notice for Fiscal Year 2001
CFDA No. and name | Applications available | Application deadline date | Maximum award (per year) ¹ | Project period | Page limit ² | Estimated number of awards
84.324U Center on Learning Disabilities | 07/13/01 | 08/24/01 | $700,000 | 60 mos | 70 | 1
84.324Z Center for Evidence-based Practice: Young Children with Challenging Behavior | 07/13/01 | 08/24/01 |  | 60 mos | 70 | 1
First Year of Project |  |  | $750,000 |  |  |
Each of the Subsequent Four Years of Project |  |  | $1,500,000 |  |  |
¹ Consistent with EDGAR 34 CFR 75.104(b), we will reject any application that proposes a project funding level for any year that exceeds the stated maximum award amount for that year.
² Applicants must limit the Application Narrative, Part III of the Application, to the page limits noted. Please refer to the “Page Limit” requirements included under each priority description and the page limit standards described in the “General Requirements” section. We will reject and will not consider an application that does not adhere to this requirement.

Electronic Access to This Document

You may view this document, as well as all other Department of Education documents published in the Federal Register, in text or portable document format (PDF) on the internet at the following site: www.ed.gov/legislation/FedRegister. To use PDF you must have Adobe Acrobat Reader, which is available free at the previous site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1472.

Dated: July 2, 2001.
Francis V. Corrigan,
Deputy Director, National Institute on Disability and Rehabilitation Research.

[FR Doc. 01-16986 Filed 7-5-01; 8:45 am]

BILLING CODE 4000-01-P